DEPARTMENT OF COMMERCE

Census Bureau

Field Representative Exit Questionnaire

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 17, 2001.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to Geraldine Burt, Census/Field Division, Room 1784/FOB 3, Washington, DC 20233-4400, and 307-457-1935.

SUPPLEMENTARY INFORMATION:

I. Abstract

Retention of trained field interviewing staff is a major concern for the Census Bureau because of both the monetary costs associated with employee turnover, as well as the potential impact on data quality. The Field Representative Exit Survey is used to collect data from a sample of our former current survey interviewers (field representatives) and decennial operations interviewers (enumerators). The purpose of the Field Representative Exit Survey is to determine the reasons for interviewer turnover and what the Census Bureau might do to help reduce its turnover rate for interviewing staff.

We will use Form BC-1294 to collect data from field representatives who leave the Census Bureau. We will use Form BC-1294(D) to collect data from the enumerators hired to work on the 2010 Test Census in 2003/2004 who stop working before the operation for which they were hired is completed. Both forms ask questions about the factors that affected an interviewer's decision as to whether to stay with the Census Bureau. The BC-1294 and BC-1294(D) cover the same topics, but the questions and response choices on the BC-1294 (D) have been tailored to decennial census operations.

The 2010 Test Censuses (the first of which is scheduled to be conducted in 2004) will be used by the Census Bureau to test and experiment with procedures in a simulated census environment in preparation for the 2010 Census. It is expected that some early operations for the 2004 Test will begin in 2003. Interviewer turnover is of heightened concern during a decennial census because of the short time periods for data collection operations.

The information collected via the Field Representative Exit Survey will help the Census Bureau develop plans to reduce turnover in its current survey and decennial interviewing staff. This in turn should allow for better informed management decisions regarding the field work force and the implementation of more effective pay plans, interviewer training and retention strategies for both current and decennial interviewers.

II. Method of Collection

The data will be collected by telephone. Interviews with former field representatives should take approximately seven (7) minutes. The form BC-1294(D) contains a few more questions related to decennial pay and work conditions and interviews with former enumerators should take approximately ten (10) minutes. We estimate that interviews will be conducted with a total of 500 field representatives on a yearly basis. The first 2010 Test Census is scheduled for 2004 with initial hiring to begin in 2003 for early operations. It is estimated that interviews will be conducted with 375 former enumerators in 2003/2004.

Approximately every month, a sample of one-half of all field representatives who voluntarily resigned within the period will be contacted by telephone to complete a BC-1294 questionnaire. Beginning approximately two weeks after the start of 2010 Test Census operations, a sample of enumerators who have continuously been in a non-pay status for a period of two weeks will be contacted by telephone to complete a BC-1294(D) questionnaire.

III. Data

OMB Number: 0607-0404.

Form Number: BC-1294, BC-1294(D).

Type of Review: Regular Submission.

Affected Public: Former Census Bureau Interviewers (Field Representatives and Enumerators).

Estimated Number of Respondents: 500 Former Current Survey Interviewers; 375 Former 2010 Test Census Enumerators.

Estimated Time Per Response: 7 minutes for Former Current Survey Interviewers; 10 minutes for Test Census Enumerators.

Estimated Total Annual Burden Hours

FY02—59 hours for former Current Survey Interviewers

0 hours for former 2010 Test Census Enumerators

59 Total Hours

FY03—59 hours for former Current Survey Interviewers

0 hours for former 2010 Test Census Enumerators

59 Total Hours

FY04—59 hours for former Current Survey Interviewers

63 hours for former 2010 Test Census Enumerators

122 Total Hours

Estimated Total Annual Cost: The only cost to respondents is their time.

Respondent's Obligation: Voluntary.

Legal Authority: Title 15 U.S.C. Section 3101 and Title 13 USC Section 23.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 12, 2001.
Madeleine Clayton,
Departmental Paperwork Clearance Officer, Office of the Chief Information Officer.

[FR Doc. 01-17782 Filed 7-16-01; 8:45 am]

BILLING CODE 3510-07-P